DEPARTMENT OF ENERGY

Federal Energy Regulatory Commission

[Project No. 2204-024, Colorado]

City and County of Denver; Notice of Availability of Environmental Assessment

April 12, 2006.

In accordance with the National Environmental Policy Act of 1969 and the Federal Energy Regulatory Commission's (Commission) regulations, 18 CFR part 380 (Order No. 486, 52 FR 47897), the Office of Energy Projects has reviewed the application for exemption from licensing for the Williams Fork Reservoir Hydroelectric Project, a small hydroelectric project of less than 5 megawatts, located on the Williams Fork River near its confluence with the Colorado River at Parshall, in Grand County, Colorado, and has prepared an Environmental Assessment (EA) for the project.

The EA contains the staff's analysis of the potential environmental impacts of the project and concludes that issuing an exemption from licensing for the project, with appropriate environmental protective measures, would not constitute a major Federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

For further information, contact Dianne Rodman at (202) 502-6077 or dianne.rodman@ferc.gov.

Magalie R. Salas,
Secretary.

[FR Doc. E6-5823 Filed 4-18-06; 8:45 am]

BILLING CODE 6717-01-P